DEPARTMENT OF TRANSPORTATION

Surface Transportation Board

[STB Finance Docket No. 33875]

The Kansas City Southern Railway Company—Trackage Rights Exemption—Illinois Central Railroad Company

Illinois Central Railroad Company (IC) has agreed to grant overhead trackage rights to The Kansas City Southern Railway Company (KCS) between a connection at Eastbridge Junction in Jefferson Parish, LA, at IC's milepost 906.73 in its McComb District, to a connection at Lampert Junction, in Orleans Parish, LA, at IC's milepost 921.3, in its McComb District, a distance of 2.8 miles.

The transaction was scheduled to be consummated on or shortly after May 12, 2000.¹

¹ Pursuant to 49 CFR 1180.4(g), a railroad must file a verified notice with the Board at least 7 days before the trackage rights are to be consummated. In its verified notice, IC indicated that it proposed to consummate the transaction on or about May 11, 2000. Because the verified notice was filed on May 5, 2000, consummation would not take place until May 12, 2000. IC's representative has been contacted and has confirmed that the consummation could not take place before May 12, 2000.

The purpose of the trackage rights is to allow KCS a more direct access to the New Orleans Public Belt Railroad Company than it currently has, and to allow KCS to avoid operations through two heavily used yard facilities at IC's Mays Yard and KCS’ West Yard.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33875, must be filed with the Surface Transportation Board, Office of the Secretary, Case Control Unit, 1925 K Street NW, Washington, DC 20423-0001. In addition, one copy of each pleading must be served on William A. Mullins, 1300 I Street NW, Suite 500, Washington, DC 30005-3314.

Board decisions and notices are available on our website at “WWW.STB.DOT.GOV.”

Decided: May 17, 2000.
By the Board, David M. Konschnik, Director, Office of Proceedings.
Vernon A. Williams,
Secretary.

[FR Doc. 00-12965 Filed 5-23-00; 8:45 am]

BILLING CODE 4915-00-P